DEPARTMENT OF COMMERCE

International Trade Administration

Notice of Renewal of and Solicitation of Nominations for Membership on the Civil Nuclear Trade Advisory Committee

AGENCY: International Trade Administration, U.S. Department of Commerce

ACTION: Notice of Renewal of and Solicitation of Nominations for Membership on the Civil Nuclear Trade Advisory Committee.

SUMMARY: The Department of Commerce (the Department) announces the renewal of the Civil Nuclear Trade Advisory Committee (CINTAC or “Committee”) on August 13, 2014 for a two-year term to expire on August 13, 2016, and is seeking nominations for 40 members to be appointed for the new charter term. The purpose of the CINTAC is to advise the Secretary of Commerce regarding the development and administration of programs to expand U.S. exports of civil nuclear goods and services in accordance with applicable U.S. laws and regulations, for use by the Department in its role as a member of the Civil Nuclear Trade Working Group of the Trade Promotion Coordinating Committee and the Department's active participation in the Atoms for Prosperity interagency group to promote U.S. civil nuclear trade.

DATES: All applications for immediate consideration for appointment must be received by 5:00 p.m. Eastern Daylight Time (EDT) on September 25, 2014. After that date, ITA will continue to accept applications under this notice through July 1, 2016 to fill any vacancies that may arise.

ADDRESSES: All nominations should be submitted in pdf or MS Word format via email to jonathan.chesebro@trade.gov, via FAX to 202-482-5665, or via mail to Jonathan Chesebro, Office of Energy & Environmental Industries, Room 4053, U.S. Department of Commerce, 14th Street and Constitution Avenue NW., Washington, DC 20230.

FOR FURTHER INFORMATION CONTACT: Jonathan Chesebro, Office of Energy and Environmental Industries, Room 4053, U.S. Department of Commerce, 14th Street and Constitution Avenue NW., Washington, DC 20230; phone 202-482-1297 or email jonathan.chesebro@trade.gov.

SUPPLEMENTARY INFORMATION:

I. Background and Authority

The Department renewed the CINTAC charter on August 13, 2014 for an additional two years, pursuant to the Department of Commerce authority under 15 U.S.C. 1512 and the Federal Advisory Committee Act (FACA), as amended, 5 U.S.C. App. The CINTAC functions solely as an advisory committee in accordance with the provisions of FACA. As noted in the SUMMARY, CINTAC advises the Secretary of Commerce regarding the development and administration of programs to expand U.S. exports of civil nuclear goods and services for use by the Department in its role as a member of the Civil Nuclear Trade Working Group of the Trade Promotion Coordinating Committee and the Department's active participation in the Atoms for Prosperity interagency group to promote U.S. civil nuclear trade. In particular, the Committee advises on matters including, but not limited to:

(1) Matters concerning trade policy development and negotiations relating to U.S. civil nuclear exports;

(2) The effect of U.S. Government policies, regulations, programs, and foreign government policies and practices on the export of U.S. civil nuclear goods and services;

(3) The competitiveness of U.S. industry and its ability to compete for civil nuclear products and services opportunities in international markets, including specific problems in exporting, and provide specific recommendations regarding U.S. Government and public/private actions to assist civil nuclear companies in expanding their exports;

(4) The identification of priority civil nuclear products and services markets with the potential for high immediate returns for U.S. exports, as well as emerging markets with a longer-term potential for U.S. exports;

(5) Strategies to increase private sector awareness and effective use of U.S. Government export promotion programs, and recommendations on how U.S. Government programs may be more efficiently designed and coordinated;

(6) The development of complementary industry and trade association export promotion programs, including ways for greater and more effective coordination of U.S. Government efforts with private sector organizations' civil nuclear industry export promotion efforts; and

(7) The development of U.S. Government programs to encourage producers of civil nuclear products and services to enter new foreign markets, in connection with which CINTAC may advise on how to gather, disseminate, and promote awareness of information on civil nuclear exports and related trade issues.

II. Membership

CINTAC shall consist of approximately 40 members appointed by the Secretary, in accordance with applicable Department of Commerce guidance and based on their ability to carry out the objectives of the Committee. Members shall represent U.S. entities involved in the export of civil nuclear products and services and reflect the diversity of this sector, including in terms of entities' size and geographic location. The Committee shall also represent the diversity of company or organizational roles in the development of civil nuclear energy projects, including, for example, U.S. civil nuclear manufacturing and services companies, U.S. utilities, U.S. trade associations, and other U.S. organizations in the U.S. civil nuclear sector. The Secretary shall appoint to the Committee at least one individual representing each of the following:

a. Civil nuclear manufacturing and services companies;

b. small businesses;

c. utilities;

d. trade associations in the civil nuclear sector;

e. research institutions and universities; and

f. private sector organizations involved in strengthening the export competitiveness of U.S. civil nuclear products and services.

Members shall serve in a representative capacity, expressing the views and interests of a U.S. entity, as well as its particular subsector; they are, therefore, not Special Government Employees. Each member of the Committee must be a U.S. citizen and must not be registered as a foreign agent under the Foreign Agents Registration Act. No member may represent a U.S. entity that is majority owned or controlled by a foreign government entity (or foreign government entities).

Members shall serve at the pleasure of the Secretary from the date of appointment to the Committee to the date on which the Committee's charter terminates on August 13, 2016. The Secretary shall designate the Committee Chair and Vice Chair. The Chair and Vice Chair shall serve in those positions at the pleasure of the Secretary. Members must attend a minimum of fifty percent of Committee meetings and a majority of subcommittee and working group activities to remain members. Failure to meet this minimum participation requirement could result in membership termination.

III. Compensation

Members of the CINTAC will not be compensated for their services or reimbursed for their travel expenses.

IV. Nominations

The Secretary of Commerce invites nominations to the CINTAC for the charter term consistent with the above membership requirements. Self-nominations will be accepted. If you are interested in nominating someone to become a member of the CINTAC, please provide the following information (2 pages maximum):

(1) Name;

(2) Title;

(3) Work phone, fax, and, email address;

(4) Name of entity to be represented and address including Web site address;

(5) Short biography of nominee including credentials;

(6) Brief description of the entity and its business activities, size (number of employees and annual sales), and export markets served; and,

(7) An affirmative statement that the applicant and entity to be represented meet all eligibility criteria, specifically addressing that the applicant:

(a) Is a U.S. citizen; and

(b) Is not required to register as a foreign agent under the Foreign Agents Registration Act of 1938, as amended.

Please do not send organization brochures or any other information.

All nominations should be submitted in pdf or MS Word format via email to jonathan.chesebro@trade.gov, via FAX to 202-482-5665, or via mail to Jonathan Chesebro, Office of Energy & Environmental Industries, Room 4053, U.S. Department of Commerce, 14th Street and Constitution Avenue NW., Washington, DC 20230.

Nominations for immediate consideration must be received by 5:00 p.m. EDT September 25, 2014. Nominees selected for appointment to CINTAC will be notified by return mail.

Dated: August 20, 2014.
Jonathan Chesebro,
Energy Team Leader, Office of Energy and Environmental Industries (Acting).

[FR Doc. 2014-20288 Filed 8-25-14; 8:45 am]

BILLING CODE 3510-DS-P